DEPARTMENT OF THE INTERIOR

Bureau of Ocean Energy Management, Regulation and Enforcement

Outer Continental Shelf Official Protraction Diagram and Supplemental Official Outer Continental Shelf Block Diagrams

AGENCY: Bureau of Ocean Energy Management, Regulation and Enforcement (BOEMRE), Interior.

ACTION: Availability of Revised North American Datum of 1983 (NAD 83) Outer Continental Shelf Official Protraction Diagram and Supplemental Official Outer Continental Shelf Block Diagrams.

SUMMARY: Notice is hereby given that effective with this publication, the following NAD 83-based Outer Continental Shelf (OCS) Official Protraction Diagram (OPD) and Supplemental Official OCS Block Diagrams (SOBDs) located in the Pacific Ocean near Eureka, California, with revision date as indicated, are now available. BOEMRE in accordance with its authority and responsibility under Title 43, Code of Federal Regulations, is updating the basic record used for the description of renewable energy, mineral, and oil and gas lease sales in the geographic areas they represent. The revised OPD and SOBDs reflect updated locations for the Submerged Lands Act (3 nautical mile), and Limit of “8(g) Zone” (6 nautical mile) boundaries. This announcement of the revised OPD and SOBDs is for informational purposes only.

Outer Continental Shelf Official Protraction Diagram in the Pacific Ocean

Description/Date

NK10-10 (Eureka)—2/10/2006.

Supplemental Official Outer Continental Shelf Block Diagrams in the Pacific Ocean, all located within Official Protraction Diagram NK10-10 (Eureka)

Boundary revised/Date/Block Numbers

Submerged Lands Act boundary Blocks (7)—2/10/2006: 6678, 6627, 6628, 6577, 6578, 6528, and 6529.

Limit of “8(g) Zone” Blocks (10)—2/10/2006: 6728, 6727, 6677, 6676, 6626, 6576, 6526, 6527, 6477, and 6478.

FOR FURTHER INFORMATION CONTACT: Steven Textoris, Acting Chief, Leasing Division at (703) 787-1223 or via e-mail at Steven.Textoris@boemre.gov. Copies of the revised OPD and SOBDs are available for download in .pdf format from: http://www.boemre.gov/offshore/mapping/pacific.htm.

Dated: November 15, 2010.
Robert P. LaBelle,
Acting Associate Director for Offshore Energy and Minerals Management.

[FR Doc. 2011-883 Filed 1-14-11; 8:45 am]

BILLING CODE 4310-MR-P